DEPARTMENT OF JUSTICE

Drug Enforcement Administration

[Docket No. 2018-43]

Kurt L. Pflieger, M.D.; Order Dismissing Order To Show Cause

On July 12, 2018, the Assistant Administrator, Diversion Control Division, Drug Enforcement Administration (hereinafter, DEA or Government), issued an Order to Show Cause to Kurt L. Pflieger, M.D. (hereinafter, Respondent), of Rockwall, Texas. Order to Show Cause (hereinafter, OSC), at 1. The OSC proposes the revocation of Respondent's Certificate of Registration on the ground that he does not have authority to handle controlled substances in the State of Texas, the State in which he is registered with the DEA. Id.

After the Administrative Law Judge (hereinafter, ALJ) certified and transmitted the record to me along with his Recommended Decision, the Government submitted a “Motion to Dismiss Order to Show Cause” (hereinafter, Motion). According to the Motion, the Texas Medical Board held a hearing after the ALJ granted the Government's Motion for Summary Disposition and recommended revocation of Respondent's registration. Motion, at 1. The Motion also states that, as a result of the hearing, the Texas Medical Board suspended Respondent's medical license, ordered that the suspension be stayed, and placed Respondent on five years' probation under various terms and conditions. Id.

The Motion concludes by stating that, “Since . . . [Respondent] now has state authority to handle controlled substances, the DEA respectfully request[s] the Administrator to dismiss the pending Order to Show Cause and recommended ruling from the Administrative Law Judge.” Id. at 2. Accordingly, I shall dismiss the Order to Show Cause.

Order

Pursuant to 28 CFR 0.100(b) and the authority thus vested in me by 21 U.S.C. 823(f) and 824(a), I order that the Order to Show Cause issued to Kurt L. Pflieger, M.D. be, and it hereby is, dismissed. This Order is effective March 11, 2019.

Dated: January 17, 2019.
Uttam Dhillon,
Acting Administrator.

[FR Doc. 2019-01528 Filed 2-6-19; 8:45 am]

BILLING CODE 4410-09-P